DEPARTMENT OF THE INTERIOR

Bureau of Land Management

[LLNV912000 L13400000.PQ0000 LXSS0006F0000; 12-08807; MO#; TAS: 14X1109]

Public Meeting for the Mojave-Southern Great Basin Resource Advisory Council and Its Planning and Recreation Subcommittees, Nevada

AGENCY: Bureau of Land Management, Interior.

ACTION: Notice of public meeting.

SUMMARY: In accordance with the Federal Land Policy and Management Act (FLPMA), the Federal Lands Recreation Enhancement Act, and the Federal Advisory Committee Act, the U.S. Department of the Interior, Bureau of Land Management (BLM) Mojave-Southern Great Basin Resource Advisory Council (RAC) and its Planning and Recreation Subcommittees will meet as indicated below.

DATES: The RAC and its Planning and Recreation Subcommittees will meet on September 27, 2017. The Planning Subcommittee will meet from 10:30 to 11:30 a.m., the Recreation Subcommittee will meet from 12 to 1:30 p.m., and the RAC will meet from 1:45 to 4:30 p.m.

ADDRESSES: The meetings will be held at the Rainbow Library, 3150 N Buffalo Drive, Las Vegas, NV 89128.

FOR FURTHER INFORMATION CONTACT: Tim Smith, District Manager, at 702-515-5000, Southern Nevada District Office, 4701 North Torrey Pines Drive, Las Vegas, NV 89130, email: tsmith@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member RAC was chartered to serve in an advisory capacity concerning the planning and management of the public land resources located within Nevada. Members represent an array of stakeholder interests in the land and resources from within the local area and statewide. All advisory council meetings are open to the public.

A public comment period will be available from 3:45 to 4:15 p.m. Persons wishing to make comments during the public comment period of the meeting should register in person with the BLM, at the meeting location, before the meeting's public comment period. Depending on the number of people wishing to comment, the length of comments may be limited.

Topics for discussion at each meeting will include, but are not limited to:

• Planning Subcommittee—Update and discussion regarding utility/transmission corridor planning, update on planning efforts such as Las Vegas In-Valley Area Multi-Action Analysis Environmental Assessment, and discuss Resource Management Plans and make any necessary recommendations.

• Recreation Subcommittee—Review of BLM recreation fee proposals and step-by-step approval process, and presentation and update on Red Rock Canyon National Conservation Area recreation fee business plan with discussion and discussion of any motions the Recreation Subcommittee wants to advance to the RAC.

• RAC—District Manager reports, committee reports, schedule of Fiscal Year 2018 RAC and Subcommittee meetings, and discuss and vote on Red Rock Canyon National Conservation Area recreation fee business plan.

The RAC may raise other topics at the meeting. Final agendas are posted on-line at the BLM Mojave-Southern Great Basin RAC Web site at http://bit.ly/2j8vR3Y. Individuals who need special assistance such as sign language interpretation or other reasonable accommodations, or who wish to receive a copy of each agenda, may contact the person listed above no later than 10 days prior to the meeting.

Before including your address, phone number, email address, or other personal information in your comments, please be aware that your entire comment, including your personal identifying information, may be made publicly available at any time. While you can ask us in your comment to withhold your personal information from public review, we cannot guarantee that will be able to do so.

Chris Rose,
Acting Deputy Chief, Office of Communications.

[FR Doc. 2017-20148 Filed 9-20-17; 8:45 am]

BILLING CODE 4310-HC-P